ENVIRONMENTAL PROTECTION AGENCY

[ER-FRL-6688-8]

Environmental Impacts Statements; Notice of Availability

Responsible Agency: Office of Federal Activities, General Information (202) 564-7167 or http://www.epa.gov/compliance/nepa/.

Weekly receipt of Environmental Impact Statements

Filed 07/02/2007 through 07/06/2007

Pursuant to 40 CFR 1506.9.

EIS No. 20070281, Draft EIS, AFS, WV, Lower Williams Project Area (LWPA), Proposed to Perform Vegetation Management and Wildlife Habitat Improvements, Implementation, Gauley Ranger District, Monongahela National Forest, Webster County, WV, Comment Period Ends: 08/27/2007, Contact: O'Dell Tucker 304-799-4334 Ext 19.

EIS No. 20070282, Draft EIS, AFS, 00, Sierra Nevada Forests Management Indicator Species Amendment (MIS), Proposes to Adopt a Common List of Management Indicator Species (MIS), and Amending Land & Resource Management Plans for Following Ten Forests: Eldorado, Inyo, Lassen, Modoc, Plumas, Sequoia, Sierra, Stanislaus and Tahoe National Forests and Lake Tahoe Basin Management Unit, Several Counties, CA and Douglas, Esmeralda, Mineral Counties, NV, Comment Period Ends: 08/27/2007, Contact: Diana Craig 707-562-8737.

EIS No. 20070283, Final EIS, AFS, OR, Five Buttes Project, Conduct Vegetation Management Activities, Implementation, Deschutes National Forest, Crescent Ranger District, Deschutes County, OR, Wait Period Ends: 08/13/2007, Contact: Marcy Boehme 541-433-3200.

EIS No. 20070284, Draft Supplement, DOE, CA, Sacramento Area Voltage Support Project, Updated Information, Proposal to Build a Double-Circuit 230-kV Transmission Line, Placer, Sacramento and Sutter Counties, CA, Comment Period Ends: 08/27/2007, Contact: Catherine Cunningham 720-962-7000.

EIS No. 20070285, Draft EIS, COE, CA, Berth 136-147 [TraPac] Container Terminal Project, Upgrade Existing Wharf Facilities, Install a Buffer Area between the Terminal and Community, U.S. Army COE Section 10 and 404 Permit, West Basin Portion of the Port of Los Angeles, CA, Comment Period Ends: 08/27/2007, Contact: Dr. Spence D. MacNeil 805-585-2152.

EIS No. 20070286, Draft EIS, BLM, WY, Kemmerer Field Office Planning Area, Resource Management Plan, Implementation, Lincoln, Sweetwater and Uinta Counties, WY, Comment Period Ends: 10/11/2007 Contact: Michele Easley 307-828-4524.

EIS No. 20070287, Final EIS, USA, MD, Garrison Aberdeen Proving Ground, Base Realignment and Closure Actions, Realignment of Assets and Staff, Implementation, Harford and Baltimore Counties, MD, Wait Period Ends: 08/13/2007, Contact: Bob Ross 703-602-2878.

EIS No. 20070288, Second Draft Supplement, NOA, 00, Bottomfish and Seamount Groundfish Fisheries of the Western Pacific Region, Amendment 14 to the fishery Management Plan, Additional Information to Analyze a Range of Management Alternatives to End Bottomfish Overfishing in the Hawaiian Archipelago, HI, GU and AS, Comment Period Ends: 08/27/2007, Contact: William L. Robinson 808-973-2941.

EIS No. 20070289, Draft EIS, SFW, AZ, Horseshoe and Bartlett Reservoirs Project, To Store and Release Water, Issuance of an Incidental Take Permit for Operation, Located Northeast of Phoenix, Maricopa and Yavapai Counties, AZ, Comment Period Ends: 09/18/2007, Contact: Debra Bills 602-242-0210.

EIS No. 20070290, Final EIS, RUS, MO, Norborne Baseload Power Plant, Proposed Construction and Operation of a 660-megawatt Net Coal-Fired Power Plant, Carroll County, MO, Wait Period Ends: 08/13/2007, Contact: Stephanie Strength 202-720-0468.

EIS No. 20070291, Draft EIS, APH, 00, PROGRAMMATIC—Introduction of Genetically Engineered (GE) Organisms, To Address Current and Future Technological Trends Resulting GE Plants, Implementation, Comment Period Ends: 08/27/2007, Contact: Michael J. Wach 301-734-0485.

EIS No. 20070292, Final EIS, COE, CA, San Luis Rey Flood Control Project, Operation and Maintenance of the Vegetation and Sediment Management, from College Blvd to the Pacific Ocean, San Diego County, CA, Wait Period Ends: 08/13/2007, Contact: Tiffany Kayama 213-452-3845.

EIS No. 20070293, Final EIS, SFW, 00, Light Goose Management Plan, Reducing and Stabilitizing Specific Populations “Light Geese” in North America, Implementation, Wait Period Ends: 08/13/2007, Contact: James R. Kelley 612-713-5409.

EIS No. 20070294, Final EIS, APH, 00, ADOPTION—Resident Canada Goose Management Plan, Evaluate Alternatives Strategies to Reduce, Manage, and Resident Canada Goose Population, Implementation, within the Conteriminous U.S., Contact: David Reinhold 301-734-7921.

U.S. DOA, APH has adopted the U.S. DOI/SFW Final EIS 20050479 filed 11/09/2005. APH was a cooperating agency on the project. Recirculation of the document is not necessary under 1506.3(b) of the CEQ Regulations.

Amended Notices

EIS No. 20070119, Draft EIS, NOA, AK, PROGRAMMATIC—Outer Continental Shelf Seismic Surveys in the Beaufort and Chukchi Seas, Proposed Offshore Oil and Gas Seismic Survey, AK, Comment Period Ends: 07/30/2007, Contact: William T. Hogarth 301-713-1632.

Revision of FR Notice Published 05/18/2007; Review Period extended to 07/30/2007.

EIS No. 20070185, Draft EIS, FHW, GA, Northwest I-75/I-575 Corridor Project, Transportation Improvements, Funding, Cobb and Cherokee Counties, GA, Comment Period Ends: 08/13/2007, Contact: Wayne Fedora 404-562-3651.

Revision of FR Notice Published on 05/18/2007; Review Period extended to 08/13/2007.

Dated: July 10, 2007.
Robert W. Hargrove,
Director, NEPA Compliance Division, Office of Federal Activities.

[FR Doc. E7-13670 Filed 7-12-07; 8:45 am]

BILLING CODE 6560-50-P